DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection for the Residue and Biomass Field Survey.

DATES: Comments on this notice must be received by February 9, 2016 to be assured of consideration.

ADDRESSES: You may submit comments, identified by docket number 0535-0251, Residue and Biomass Field Survey by any of the following methods:

• Email: ombofficer@nass.usda.gov . Include docket number and title above in the subject line of the message.

• Efax: (855) 838-6382

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336, South Building, 1400 Independence Avenue SW., Washington, DC 20250-2024.

FOR FURTHER INFORMATION CONTACT: R. Renee Picanso, Associate Administrator, National Agricultural Statistics Service, U.S. Department of Agriculture, (202) 720-4333. Copies of this information collection and related instructions can be obtained without charge from David Hancock, NASS Clearance Officer, at (202) 690-2388 or at ombofficer@nass.usda.gov.

SUPPLEMENTARY INFORMATION:

Title: Residue and Biomass Field Survey.

OMB Control Number: 0535—0251.

Type of Request: Intent to Seek Approval to Revise and Extend an Information Collection for 3 years.

Abstract: The primary objectives of the National Agricultural Statistics Service are to prepare and issue State and national estimates of crop production, livestock production, economic statistics, and environmental statistics related to agriculture and to conduct the Census of Agriculture and its follow-on surveys. This project is conducted as a cooperative effort with USDA's Agricultural Research Service (ARS).

The Residue and Biomass Field Survey will use as a sampling universe, fields in the South Fork watershed in central Iowa (Buckeye, IA). This study will investigate the effect crop residue removal has on soil and water quality. Measurements of crop residues will be compared with remotely sensed data to measure crop residue cover and soil tillage intensity for the entire watershed. The survey will be conducted in several phases. The farm operators will only be involved in three parts of the complete survey process. After obtaining the operators' permission, field enumerators will return several times during the growing season to measure and collect samples from the target areas. The farm operators will be contacted two other times to collect some additional data relating to cropping practices performed during the growing season.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-13) and Office of Management and Budget regulations at 5 CFR part 1320 (60 FR 44978, August 29, 1995).

NASS also complies with OMB Implementation Guidance, “Implementation Guidance for Title V of the E-Government Act, Confidential Information Protection and Statistical Efficiency Act of 2002 (CIPSEA),” Federal Register, 72 FR 33376, June 15, 2007.

Estimate of Burden: Public reporting burden for this collection of information is estimated to average a total of 70 minutes per respondent for the complete survey cycle.

Annual Estimated Sample Size and Respondent Burden for 2016-2018
Survey | Sample size | Freq. | Responses: Resp. count | Responses: Freq. × count | Responses: Min./ resp. | Responses: Burden hours | Non-response: Nonresp. count | Non-response: Freq. × count | Non-response: Min./ nonr. | Non-response: Burden hours | Total burden hours
Screening Phase in May | 100 | 1 | 80 | 80 | 20 | 27 | 20 | 20 | 2 | 1 | 27
Field Measurements in May/June ¹ | 80 | 1 | 25 | 25 | 0 | 0 | 55 | 55 | 0 | 0 | 0
Screening Phase in September | 80 | 1 | 42 | 42 | 20 | 14 | 38 | 38 | 2 | 1 | 15
Harvest Sample crops ¹ | 80 | 2 | 42 | 42 | 0 | 0 | 38 | 38 | 0 | 0 | 0
Cropping Practices survey | 80 | 1 | 42 | 42 | 30 | 21 | 38 | 38 | 2 | 1 | 22
Total | 100 |  | 146 | 230 |  | 62 |  |  |  | 3 | 65
¹ The operator does not need to be present for the field visits (measurement and harvesting), so no respondent burden is associaed with these phases of the survey.

Respondents: Farmers, ranchers, and farm managers in the South Fork Watershed in Central Iowa.

Estimated Number of Respondents: 100

Estimated Total Annual Burden on Respondents: 65 hours

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, December 3, 2015.
R. Renee Picanso,
Associate Administrator.

[FR Doc. 2015-31243 Filed 12-10-15; 8:45 am]

BILLING CODE 3410-20-P